INTERNATIONAL TRADE COMMISSION

[USITC SE-04-014]

Sunshine Act Meeting

AGENCY: International Trade Commission.

Time and Date: June 28, 2004 at 11 a.m.

Place: Room 101, 500 E Street SW., Washington, DC 20436, Telephone: (202) 205-2000.

Status: Open to the public.

Matters to be Considered:

1. Agenda for future meetings: none.

2. Minutes.

3. Ratification List.

4. Inv. Nos. 731-TA-1082-1083 (Preliminary) (Chlorinated Isocyanurates from China and Spain)—briefing and vote. (The Commission is currently scheduled to transmit its determination to the Secretary of Commerce on June 28, 2004; Commissioners' opinions are currently scheduled to be transmitted to the Secretary of Commerce on or before July 6, 2004.

5. Outstanding action jackets: none.

In accordance with Commission policy, subject matter listed above, not disposed of at the scheduled meeting, may be carried over to the agenda of the following meeting.

Issued: June 17, 2004.
By order of the Commission:
Marilyn R. Abbott,
Secretary to the Commission.

[FR Doc. 04-14101 Filed 6-17-04; 1:10 pm]

BILLING CODE 7020-02-P